DEPARTMENT OF TRANSPORTATION

Federal Aviation Administration

Agency Information Collection Activity Under OMB Review, Request for Comments; Renewal of an Approved Information Collection Activity, New Final rule Certification of Repair Stations, Part 145 of Title 14, CFR Compliance of 145.163

AGENCY: Federal Aviation Administration (FAA), DOT.

ACTION: Notice and request for comments.

SUMMARY: The FAA invites public comments about our intention to request the Office of Management and Budget's (OMB) renewal of a current information collection. The Federal Register Notices with a 60-day comment period soliciting comments on the following collection of information was published on July 27, 2005, vol. 70, #143, pages 43502-43503. Information is collected from applicants who wish to obtain repair station certification. Applicants must submit FAA form 8310-3 to the appropriate FAA flight standards district office for review. When all the requirements have been met, and air agency certificate and repair station operations specifications with appropriate rating and limitations are issued.

DATES: Please submit comments by December 12, 2005.

FOR FURTHER INFORMATION CONTACT: Judy Street on (202) 267-9895.

SUPPLEMENTARY INFORMATION:

Federal Aviation Administration (FAA)

Title: New Final rule Certification of Repair Stations, Part 145 of Title 14, CFR Compliance of 145.163.

Type of Request: Renewal of an approved collection.

OMB Control Number: 2120-0682.

Forms(s): FAA Form 8310-3.

Affected Public: A total of 4,625 Respondents.

Frequency: The information is conducted on an as-needed basis.

Estimated Average Burden Per Response: Approximately 22 hours per response.

Estimated Annual Burden Hours: An estimated 185,000 hours annually.

Abstract: Information is collected from applicants who wish to obtain repair station certification. Applicants must submit FAA form 8310-3 to the appropriate FAA flight standards district office for review. If the application is satisfactory, an onsite inspection is conducted. When all the requirements have been met, and air agency certificate and repair station operations specifications with appropriate rating and limitations are issued.

ADDRESSES: Send comments to the Office of Information and Regulatory Affairs, Office of Management and Budget, 725 17th Street; NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on November 4, 2005.
Judith D. Street,
FAA Information Collection Clearance Officer, Information Systems and Technology Services Staff, ABA-20.

[FR Doc. 05-22402 Filed 11-9-05; 8:45 am]

BILLING CODE 4910-13-M